FEDERAL COMMUNICATIONS COMMISSION

Federal Advisory Committee Act; Advisory Committee on Diversity for Communications in the Digital Age

AGENCY: Federal Communications Commission.

ACTION: Notice of public meeting.

SUMMARY: In accordance with the Federal Advisory Committee Act, this notice advises interested persons that the Federal Communications Commission's (FCC) Advisory Committee on Diversity for Communications in the Digital Age (“Diversity Committee”) will hold a meeting on December 21, 2006, at 10 a.m. in the Commission Meeting Room of the Federal Communications Commission, Room TW-C305, 445 12th Street, SW., Washington, DC 20554. We note that the Commission is in the process of rechartering the Committee. This meeting will be the first that includes a newly constituted membership. In addition, Lisa M. Fowlkes and Barbara Kreisman are now the Diversity Committee's Designated Federal Officer and Alternate Designated Federal Officer, respectively.

DATES: December 21, 2006.

ADDRESSES: Federal Communications Commission, Room TW-C305 (Commission Meeting Room), 445 12th Street, SW., Washington, DC 20554.

FOR FURTHER INFORMATION CONTACT: Lisa M. Fowlkes, Designated Federal Officer of the FCC's Diversity Committee (202) 418-7452 or e-mail: lisa.fowlkes@fcc.gov.

SUPPLEMENTARY INFORMATION: At this meeting, the Diversity Committee will discuss and consider possible areas in which to develop recommendations that will further enhance the ability of minorities and women to participate in the telecommunications and related industries.

Members of the general public may attend the meeting. The FCC will attempt to accommodate as many people as possible. However, admittance will be limited to seating availability. The public may submit written comments before the meeting to: Lisa M. Fowlkes, the FCC's Designated Federal Officer for the Diversity Committee by e-mail: lisa.fowlkes@fcc.gov or U.S. Postal Service Mail (Lisa M. Fowlkes, Federal Communications Commission, Room 7-C753, 445 12th Street, SW., Washington, DC 20554).

Open captioning will be provided for this event. Other reasonable accommodations for people with disabilities are available upon request. Requests for such accommodations should be submitted via e-mail to fcc504@fcc.gov or by calling the Consumer & Governmental Affairs Bureau at (202) 418-0530 (voice), (202) 418-0432 (tty). Such requests should include a detailed description of the accommodation needed. In addition, please include a way we can contact you if we need more information. Please allow at least five days advance notice; last minute requests will be accepted, but may be impossible to fill.

Additional information regarding the Diversity Committee can be found at http://www.fcc.gov/DiversityFAC.

Federal Communications Commission.
William F. Caton,
Deputy Secretary.

[FR Doc. E6-20687 Filed 12-5-06; 8:45 am]

BILLING CODE 6712-01-P